DEPARTMENT OF HEALTH AND HUMAN SERVICES

National Institutes of Health

National Center for Research Resources; Amended Notice of Meeting

Notice is hereby given of a change in the meeting of the Comparative Medicine Review Committee, October 20, 2011, 8 a.m. to October 20, 2011, 5 p.m., Hilton Rockville, 1750 Rockville Pike, Rockville, MD 20852 which was published in the Federal Register on August 19, 2011, 76FR 51995.

The committee meeting has been changed to a one day meeting on September 20, 2011 only. The meeting is closed to the public.

Dated: August 25, 2011.
Jennifer S. Spaeth,
Director, Office of Federal Advisory Committee Policy.

[FR Doc. 2011-22300 Filed 8-30-11; 8:45 am]

BILLING CODE 4140-01-P